DEPARTMENT OF THE INTERIOR

Fish and Wildlife Service

[FWS-R3-R-2016-N134; FXRS1261030000-178-FF03R02000]

Glacial Ridge National Wildlife Refuge, Polk County, Minnesota; Final Comprehensive Conservation Plan, Environmental Assessment, and Finding of No Significant Impact

AGENCY: Fish and Wildlife Service, Interior.

ACTION: Notice of availability.

SUMMARY: We, the U.S. Fish and Wildlife Service (Service), announce the availability of a final comprehensive conservation plan (CCP), environmental assessment (EA), and finding of no significant impact (FONSI) for the Glacial Ridge National Wildlife Refuge (refuge, NWR). In this final CCP we describe how we propose to manage the refuge for the next 15 years.

ADDRESSES: You will find the final CCP, a summary of the final CCP, and the EA/FONSI on the planning Web site at http://www.fws.gov/midwest/planning/GlacialRidge/index.html. A limited number of hard copies and CD-ROMs are available. You may request one by any of the following methods:

• Email: r3planning@fws.gov. Include “Glacial Ridge Final CCP/EA” in the subject line of the message.

• U.S. Mail: Attention: Refuge Manager, Glacial Ridge NWR, 17788 349th St. SE., Erskine, MN 56535.

FOR FURTHER INFORMATION CONTACT: Gregg Knutsen, 218-687-2229 x16.

SUPPLEMENTARY INFORMATION:

Introduction

With this notice, we complete the CCP process for Glacial Ridge National Wildlife Refuge, which we began by publishing a notice of intent in the Federal Register (78 FR 3909) on January 17, 2013. For more about the initial process and the history of this refuge, see that notice. We released the draft CCP and EA to the public, announcing and requesting comments in a notice of availability (81 FR 31655) on May 19, 2016. The 42-day comment period ended on June 20, 2016. A summary of public comments and the agency responses are included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP/EA may be found at http://www.fws.gov/midwest/planning/glacialridge/index.html. The document incorporates an EA and FONSI, prepared in accordance with the National Environmental Policy Act (NEPA) (43 U.S.C. 4321 et seq.). The CCP/EA includes detailed information about the planning process, refuge, issues, and management alternatives considered and proposed. The EA includes discussions of three alternative refuge management options. The Service's preferred alternative is reflected in the final CCP.

The selected alternative for Glacial Ridge NWR includes refuge management actions that approximate ecological processes that maintained native habitats prior to European settlement, emphasizing the use of multiple habitat disturbance regimes (e.g., fire, grazing, mowing). These actions would maintain and increase the diversity of native vegetation and wildlife communities that mimic pre-settlement conditions. Management activities would be “focused” via a refuge prioritization effort to maximize the intended impacts on priority units, given reduced refuge staff and funding. Public use opportunities would continue with minimal changes. Staff time and funding would focus on improving opportunities for self-guided interpretation of refuge habitats and wildlife using existing infrastructure.

Charles M. Wooley,
Acting Regional Director.

[FR Doc. 2016-29672 Filed 12-9-16; 8:45 am]

BILLING CODE 4333-15-P